DEPARTMENT OF EDUCATION

Privacy Act of 1974; System of Records—Study of Teacher Preparation Experiences and Early Teacher Effectiveness

AGENCY: Institute of Education Sciences, Department of Education.

ACTION: Notice of an altered system of records.

SUMMARY: In accordance with the Privacy Act of 1974, as amended (Privacy Act), the Department of Education (Department) publishes this notice of an altered system of records entitled “Study of Teacher Preparation Experiences and Early Teacher Effectiveness” (18-13-29) (formerly, “Study of Promising Features of Teacher Preparation Programs”). The National Center for Education Evaluation and Regional Assistance at the Department's Institute of Education Sciences (IES) awarded a contract in September 2011 to Abt Associates to conduct a rigorous study of the effect on student learning of teachers who have various experiences in their teacher preparation programs (e.g., intensive clinical practice). The original system of records notice for this study was published in the Federal Register on June 28, 2012 (77 FR 38611). This altered system of records notice reflects changes to the study's design based on the infeasibility of efficiently identifying a sufficient number of teachers eligible for an impact study design.

DATES: Submit your comments on this notice of an altered system of records or before March 4, 2015.

The Department filed a report describing the altered system of records covered by this notice with the Chair of the Senate Committee on Homeland Security and Governmental Affairs, the Chair of the House Committee on Oversight and Government Reform, and the Administrator of the Office of Information and Regulatory Affairs, Office of Management and Budget (OMB) on January 20, 2015. This altered system of records will become effective at the later date of: (1) The expiration of the 40-day period for OMB review on March 2, 2015, unless OMB waives 10 days of the 40-day review period for compelling reasons shown by the Department, or (2) March 4, 2015, unless the system of records needs to be changed as a result of public comment or OMB review. The Department will publish any changes to the system of records or routine uses that result from public comment or OMB review.

ADDRESSES: Address all comments about this notice of an altered system of records to Dr. Audrey Pendleton, Associate Commissioner, Evaluation Division, National Center for Education Evaluation and Regional Assistance, Institute of Education Sciences, U.S. Department of Education, 555 New Jersey Avenue NW., Room 502D, Washington, DC 20208-0001. Telephone: (202) 208-7078. If you prefer to send your comments through the Internet, use the following address: comments@ed.gov.

You must include the phrase “Study of Teacher Preparation Experiences and Early Teacher Effectiveness” in the subject line of the electronic message.

During and after the comment period, you may inspect all public comments about this notice at the Department in room 502D, 555 New Jersey Avenue NW., Washington, DC, between the hours of 8:00 a.m. and 4:30 p.m., Washington, DC time, Monday through Friday of each week except Federal holidays.

Assistance to Individuals With Disabilities in Reviewing the Rulemaking Record

On request we will provide an appropriate accommodation or auxiliary aid to an individual with a disability who needs assistance to review the comments or other documents in the public rulemaking record for this notice. If you want to schedule an appointment for this type of accommodation or aid, please contact the person listed under FOR FURTHER INFORMATION CONTACT.

FOR FURTHER INFORMATION CONTACT: Dr. Audrey Pendleton Associate Commissioner, Evaluation Division, National Center for Education Evaluation and Regional Assistance, Institute of Education Sciences, U.S. Department of Education, 555 New Jersey Avenue NW., Room 502D, Washington, DC 20208-0001. Telephone: (202) 208-7078. If you use a telecommunications device for the deaf (TDD) or a text telephone (TTY), call the Federal Relay Service (FRS), toll free, at 1-800-877-8339.

Individuals with disabilities can obtain this document in an accessible format (e.g., braille, large print, audiotape, or compact disc) on request to the contact person listed in this section.

SUPPLEMENTARY INFORMATION:

Introduction

The Privacy Act (5 U.S.C. 552a(e)(4) and (e)(11)) requires the Department to publish in the Federal Register this notice of an altered system of records maintained by the Department. The Department's regulations implementing the Privacy Act are contained in part 5b of title 34 of the Code of Federal Regulations (CFR).

The Privacy Act applies to records about individuals that contain individually identifying information and that are retrieved by a unique identifier associated with each individual, such as a name or Social Security number (SSN). The information about each individual is called a “record,” and the system, whether manual or computer-based, is called a “system of records.”

The Privacy Act requires each agency to publish a notice of a system of records in the Federal Register and to prepare and send a report to OMB whenever the agency publishes a new system of records or makes a significant change to an established system of records. Each agency is also required to send copies of the report to the Chair of the Senate Committee on Homeland Security and Governmental Affairs and the Chair of the House Committee on Oversight and Government Reform. These reports are inc1uded to permit an evaluation of the probable effect of the proposal on the privacy rights of individuals.

In response to expert feedback, this study will examine the relationship between student learning outcomes and teaching preparation experiences that vary in terms of type (e.g., coursework, fieldwork, and intensive feedback in the field) and content (e.g., classroom management and instructional strategies). District, teacher, and student sample sizes and teacher data elements have been revised to allow for this analysis.

Accordingly, the Department has retitled the system of records (now “Study of Teacher Preparation Experiences and Early Teacher Effectiveness,” instead of “Study of Promising Features of Teacher Preparation Programs”) and updated the section of the system of records notice entitled “CATEGORIES OF INDIVIDUALS COVERED BY THE SYSTEM” to reflect that the system of records will contain records on approximately 1,518,950 students and 8,000 novice teachers from up to 50 school districts. The system of records will include personally identifying information on novice teachers of fourth through sixth grade students in study districts and on students in those grades. The Department also has updated the section of the system of records notice entitled “CATEGORIES OF RECORDS IN THE SYSTEM.” For students, the information in the system of records will include school name; student identification number; birth date; demographic information such as race, ethnicity, and gender; and educational background, including individualized education program status, primary disability code (if applicable), English language learner status, and English language proficiency level (if applicable); whether enrolled in the National School Lunch Program; and scores on reading and mathematics achievement tests. For teachers, the system of records will include name and contact information; teacher identification number; Social Security number; demographic information such as race and ethnicity; information on postsecondary institution attended and teaching preparation experiences; and scores on postsecondary entrance exams. Additionally, the Department has updated the section of the system of records notice entitled “PURPOSE(S)” to reflect the changes to the study's design and research questions. The Department has also updated the section of the notice entitled “ROUTINE USES OF RECORDS MAINTAINED IN THE SYSTEM, INCLUDING CATEGORIES OF USERS AND THE PURPOSES OF SUCH USES” to include disclosure to researchers. Finally, the Department has made minor updates to other sections of the system notice entitled “SYSTEM LOCATIONS,” “AUTHORITY FOR MAINTENANCE OF THE SYSTEM,” “STORAGE,” and “RECORD SOURCE CATEGORIES.”

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: January 28, 2015.
Sue Betka,
Acting Director, Institute of Education Sciences.

For the reasons discussed in the preamble, the Director of the Institute of Education Sciences, U.S. Department of Education (Department) publishes a notice of an altered system of records to read as follows:

SYSTEM NUMBER:

18-13-29

SYSTEM NAME:

Study of Teacher Preparation Experiences and Early Teacher Effectiveness.

SECURITY CLASSIFICATION:

None.

SYSTEM LOCATIONS:

(1) Evaluation Division, National Center for Education Evaluation and Regional Assistance, Institute of Education Sciences (IES), U.S. Department of Education, 555 New Jersey Avenue NW., Room 502D, Washington, DC 20208-0001.

(2) Abt Associates, 55 Wheeler Street, Cambridge, MA 02138-1168 (contractor).

(3) Education Analytics, 555 West Washington Avenue, Madison, WI 53703-2615 (subcontractor).

(4) Westat, 1600 Research Boulevard, Rockville, MD 20850-3129 (subcontractor).

CATEGORIES OF INDIVIDUALS COVERED BY THE SYSTEM:

The system will contain records on approximately 1,518,950 fourth through sixth grade students and 8,000 novice teachers from up to 50 school districts.

CATEGORIES OF RECORDS IN THE SYSTEM:

The system of records will include information about the students and teachers who participate in the study. For students, this information will include, but will not necessarily be limited to, school name; student identification number; birth date; enrolled grade; demographic information such as race, ethnicity, and gender; and educational background information, including individualized education program status, primary disability code (if applicable), English language learner status, and English language proficiency level (if applicable); whether enrolled in the National School Lunch Program; and scores on reading and mathematics achievement tests. For teachers, this information will include, but will not necessarily be limited to, name and contact information; teacher identification number; Social Security number; demographic information such as race and ethnicity; information on postsecondary institution attended and teaching preparation experiences; scores on postsecondary entrance exams.

AUTHORITY FOR MAINTENANCE OF THE SYSTEM:

The study is authorized under sections 171(b) and 173 of the Education Sciences Reform Act of 2002 (ESRA)(20 U.S.C. 9561(b) and 9563) and section 9601 of the Elementary and Secondary Education Act of 1965, as amended (ESEA)(20 U.S.C. 7941).

PURPOSE(S):

The information contained in the records maintained in this system will be used to conduct a rigorous study of the relationship between student learning outcomes and teachers' preparation experiences.

The study will address the following central research question: What are the relationships between teacher preparation experiences and teacher effectiveness?

Secondary research questions for the study are:

What are the relationships between teacher preparation experiences and teacher effectiveness with English learners? Do relationships between teachers' preparation experiences and teacher effectiveness differ depending on teachers' assessments of the usefulness of the preparation experiences?

ROUTINE USES OF RECORDS MAINTAINED IN THE SYSTEM, INCLUDING CATEGORIES OF USERS AND THE PURPOSES OF SUCH USES:

The Department may disclose information contained in a record in this system of records under the routine use listed here without the consent of the individual if the disclosure is compatible with the purposes for which the record was collected. The Department may make these disclosures on a case-by-case basis or, if the Department has complied with the computer matching requirements of the Privacy Act of 1974, as amended (Privacy Act) (5 U.S.C. 552a), under a computer matching agreement. Any disclosure of individually identifiable information from a record in this system must also comply with the requirements of section 183 of ESRA (20 U.S.C. 9573), which provides confidentiality standards that apply to all collection, reporting, and publication of data by IES. In disclosing personally identifiable information from students' education records, the Department must also comply with the requirements of the Family Educational Rights and Privacy Act (FERPA) (20 U.S.C. 1232g; 34 CFR part 99), which protects the privacy of students' education records.

1. Contract Disclosure. If the Department contracts with an entity to perform any function that requires disclosing records in this system to the contractor's employees, the Department may disclose the records to those employees who have received the appropriate level of security clearance from the Department. Before entering into such a contract, the Department will require the contractor to establish and maintain the safeguards required under the Privacy Act (5 U.S.C. 552a(m)) with respect to the records in the system.

2. Research Disclosure. The Director of IES may license confidential information from this system of records to qualified external researchers solely for the purpose of carrying out specific research that is compatible with the purpose(s) of this system of records. The researcher must maintain, under the Privacy Act and section 183(c) of the ESRA, safeguards with respect to such records.

DISCLOSURE TO CONSUMER REPORTING AGENCIES:

None.

POLICIES AND PRACTICES FOR STORING, RETRIEVING, ACCESSING, RETAINING, AND DISPOSING OF RECORDS IN THE SYSTEM:

STORAGE:

The Department maintains records on CD-ROM, and the contractor (Abt Associates Inc.) and sub-contractors (Education Analytics, Westat) maintain data for this system on computers and in hard copy.

RETRIEVABILITY:

Records in this system are indexed and retrieved by a unique number assigned to each individual that is cross-referenced by the individual's name on a separate list.

SAFEGUARDS:

All physical access to the Department's site and to the sites of the Department's contractor and subcontractors, where this system of records is maintained, is controlled and monitored by security personnel. The computer system employed by the Department offers a high degree of resistance to tampering and circumvention. This security system limits data access to Department and contract staff on a need-to-know basis and controls individual users' ability to access and alter records within the system.

The contractor and subcontractors have established a similar set of procedures at their sites to ensure confidentiality of data. The contractor and subcontractors are required to ensure that print data identifying individuals are in files physically separated from other research data and electronic files identifying individuals are separated from other electronic research data files. The contractor and subcontractors maintain security of the complete set of all master data files and documentation. Access to individually identifiable data is strictly controlled. At each site, all hardcopy data are kept in locked file cabinets during nonworking hours and work on hardcopy data takes place in a single room, except for data entry.

Physical security of electronic data is also maintained. Security features that protect project data include: Password-protected accounts that authorize users to use the contractor's system but to access only specific network directories and network software; user rights and directory and file attributes that limit those who can use particular directories and files and determine how they can use them; and additional security features that the network administrators will establish for projects as needed. The Department's, contractor's, and subcontractors' employees who “maintain” (collect, maintain, use, or disseminate) data in this system must comply with the requirements of the Privacy Act, FERPA, and the confidentiality standards in section 183 of the ESRA (20 U.S.C. 9573).

RETENTION AND DISPOSAL:

Records are maintained and disposed of in accordance with the Department's Records Disposition Schedules (GRS 23, Item 8).

SYSTEM MANAGER AND ADDRESS:

Associate Commissioner, Evaluation Division, National Center for Education Evaluation and Regional Assistance, Institute of Education Sciences, U.S. Department of Education, 555 New Jersey Avenue NW., Room 502D, Washington, DC 20208-0001.

NOTIFICATION PROCEDURE:

If you wish to determine whether a record exists regarding you in the system of records, contact the system manager. Your request must meet the requirements of the Department's Privacy Act regulations at 34 CFR 5b.5, including proof of identity.

RECORD ACCESS PROCEDURE:

If you wish to gain access to a record about you in this system of records, contact the system manager. Your request must meet the requirements of the Department's Privacy Act regulations at 34 CFR 5b.5, including proof of identity.

CONTESTING RECORD PROCEDURE:

If you wish to contest the content of a record regarding you in the system of records, contact the system manager. Your request for access to a record must meet the requirements of the Department's Privacy Act regulations at 34 CFR 5b.7, including proof of identity.

RECORD SOURCE CATEGORIES:

This system will contain records on teachers, and students participating in a study of teaching preparation experiences and teacher effectiveness. Data will be obtained through human resource and student records maintained by the school districts and surveys of teachers.

EXEMPTIONS CLAIMED FOR THE SYSTEM:

None.

[FR Doc. 2015-01932 Filed 1-30-15; 8:45 am]

BILLING CODE 4000-01-P